DEPARTMENT OF COMMERCE

International Trade Administration

[A-570-188]

Float Glass Products From the People's Republic of China: Final Affirmative Determination of Sales at Less Than Fair Value

AGENCY: Enforcement and Compliance, International Trade Administration, Department of Commerce.

SUMMARY: The U.S. Department of Commerce (Commerce) determines that float glass products (float glass) from the People's Republic of China (China) are being, or are likely to be, sold in the United States at less than fair value (LTFV). The period of investigation is April 1, 2024, through September 30, 2024.

DATES: Applicable February 9, 2026.

FOR FURTHER INFORMATION CONTACT: Dmitry Vladimirov, AD/CVD Operations, Office I, Enforcement and Compliance, International Trade Administration, U.S. Department of Commerce, 1401 Constitution Avenue NW, Washington, DC 20230; telephone: (202) 482-0665.

SUPPLEMENTARY INFORMATION:

Background

On July 15, 2025, Commerce published in the Federal Register its Preliminary Determination in this investigation and invited interested parties to comment.¹

¹ See Float Glass Products from the People's Republic of China: Preliminary Affirmative Determination of Sales at Less Than Fair Value, Postponement of Final Determination, and Extension of Provisional Measures, 90 FR 31602 (July 15, 2025) (Preliminary Determination), and accompanying Preliminary Decision Memorandum (PDM).

Due to the lapse in appropriations and Federal Government shutdown, on November 14, 2025, Commerce tolled all deadlines in administrative proceedings by 47 days.² Additionally, due to a backlog of documents that were electronically filed via Enforcement and Compliance's Antidumping and Countervailing Duty Centralized Electronic Service System (ACCESS) during the Federal Government shutdown, on November 24, 2025, Commerce tolled all deadlines in administrative proceedings by an additional 21 days.³ Accordingly, the deadline for this final determination is now February 3, 2026.

² See Memorandum, “Deadlines Affected by the Shutdown of the Federal Government,” dated November 14, 2025.

³ See Memorandum, “Tolling of all Case Deadlines,” dated November 24, 2025.

For a complete description of the events that followed the Preliminary Determination, see the Issues and Decision Memorandum.⁴ The Issues and Decision Memorandum is a public document and is on file electronically via ACCESS. ACCESS is available to registered users at https://access.trade.gov. In addition, a complete version of the Issues and Decision Memorandum can be accessed directly at https://access.trade.gov/public/FRNoticesListLayout.aspx.

⁴ See Memorandum, “Issues and Decision Memorandum for the Final Affirmative Determination in the Less-Than-Fair-Value Investigation of Float Glass Products from the People's Republic of China,” dated concurrently with, and hereby adopted by, this notice (Issues and Decision Memorandum).

Scope of the Investigation

The products covered by this investigation are float glass products from China. For a complete description of the scope of this investigation, see Appendix I.

Scope Comments

In the Preliminary Scope Memorandum, we set aside a period of time for parties to raise issues regarding product coverage (i.e., scope) in scope-specific case briefs or other written comments.⁵ We received scope case and rebuttal briefs from multiple interested parties. For a summary of the product coverage comments and rebuttal responses submitted to the record for this final determination, and accompanying discussion and analysis of all comments timely received, see the Final Scope Memorandum.⁶ In this final determination, Commerce modified the scope language used in the Preliminary Determination by adding certain Harmonized Tariff Schedule of the United States subheadings to the scope.⁷ See Appendix I.

⁵ See Memorandum, “Float Glass Products from the People's Republic of China and Malaysia: Scope Comments Decision Memorandum for the Preliminary Determinations,” dated July 9, 2025 (Preliminary Scope Memorandum).

⁶ See Memorandum, “Float Glass Products from the People's Republic of China and Malaysia: Final Scope Decision Memorandum,” dated February 3, 2026 (Final Scope Memorandum).

⁷ Id.

Verification

Because the China-wide entity in this investigation did not provide information requested by Commerce, Commerce determines that the China-wide entity was uncooperative and, thus, we did not conduct any verifications.

Analysis of Comments Received

In response to our invitation to comment on the Preliminary Determination, interested parties submitted case and rebuttal briefs to Commerce. All issues raised in the case and rebuttal briefs submitted by interested parties in this investigation are addressed in the Issues and Decision Memorandum. A list of the issues addressed in the Issues and Decision Memorandum is attached to this notice as Appendix II.

Changes Since the Preliminary Determination

Based on our review of the record and comments received from interested parties regarding the Preliminary Determination, we made changes for this final determination.

China-Wide Entity and Use of Adverse Facts Available (AFA)

For the purposes of this final determination, consistent with the Preliminary Determination,⁸ Commerce relied solely on the use of AFA for the China-wide entity, pursuant to sections 776(a) and (b) of the Tariff Act of 1930, as amended (the Act), in determining the dumping rate for the China-wide entity.⁹ For this final determination, we continue to apply AFA to the China-wide entity.

⁸ See Preliminary Determination PDM at 10-12.

⁹ See sections 776(a)(1) and (2)(A)-(C) and (b) of the Act.

Separate Rate

We received comments ¹⁰ on our preliminary separate rate determination.¹¹ Based on our analysis of the comments received, our preliminary determination with respect to separate rate eligibility continues to be unchanged in the final determination.¹² However, we revised the separate rate for the final determination.

¹⁰ See Issues and Decision Memorandum at Comment 2.

¹¹ See Preliminary Determination PDM at 8-10.

¹² See Issues and Decision Memorandum at Comment 2.

Combination Rates

Consistent with the Preliminary Determination and Policy Bulletin 05.1,¹³ we assigned a producer/exporter combination rate for the companies that are listed in the “Final Determination” and eligible for separate rates.¹⁴

¹³ See Enforcement and Compliance's Policy Bulletin No. 05.1, regarding, “Separate-Rates Practice and Application of Combination Rates in Antidumping Investigations involving Non-Market Economy Countries,” (April 5, 2005) (Policy Bulletin 05.1), available on Commerce's website at https://access.trade.gov/Resources/policy/bull05-1.pdf.

¹⁴ See Preliminary Determination PDM at 8-10.

Final Determination

Commerce determines that the following estimated weighted-average dumping margins exist for the period, April 1, 2024, through September 30, 2024:

¹⁵ See Float Glass Products from the People's Republic of China: Preliminary Affirmative Countervailing Duty Determination and Alignment of Final Determination With Final Antidumping Duty Determination, 90 FR 21281 (May 19, 2025), and accompanying Preliminary Decision Memorandum at 40-41, for the total of 0.02 percent for export subsidies, unchanged in Float Glass Products from The People's Republic of China: Final Affirmative Countervailing Duty Determination, signed concurrently with this notice.

Exporter | Producer | Weighted- average dumping margin (percent) | Cash deposit rate (adjusted for subsidy offsets) (percent) ¹⁵
Benxi Fuyao Float Glass Co., Ltd | Benxi Fuyao Float Glass Co., Ltd | 151.29 | 151.27
Changshu Chenming High-Tech International Trading Co., Ltd | Changshu High-Tech Energy-Saving Dorwin Co., Ltd | 151.29 | 151.27
Dong Guan City Bathnology Industrial Co., Ltd | Dong Guan City Bathnology Industrial Co., Ltd | 151.29 | 151.27
Dongguan Gongying Supply Chain Management Co., Ltd | Lamxon Technology Building Materials Co., Ltd | 151.29 | 151.27
Guangdong Guang Yi Import and Export Co., Ltd | Lamxon Technology Building Materials Co., Ltd | 151.29 | 151.27
Guangdong Rosery Bath Science and Technology Co., Ltd | Guangdong Rosery Bath Science and Technology Co., Ltd | 151.29 | 151.27
Orient Resource Corporation Limited | Orient Resource Corporation Limited | 151.29 | 151.27
Qingdao Apis Glass Industries Co., Ltd | Qingdao Apis Glass Industries Co., Ltd | 151.29 | 151.27
Qingdao Oriental Brother New Energy Technology Co., Ltd | Qingdao Oriental Brother New Energy Technology Co., Ltd | 151.29 | 151.27
Qinhuangdao Xinhua Glass Processing Co., Ltd | Qinhuangdao Xinhua Glass Processing Co., Ltd | 151.29 | 151.27
Shandong Jinjing Science and Technology Stock Co., Ltd. Boshan Branch | Shandong Jinjing Science and Technology Stock Co., Ltd. Boshan Branch | 151.29 | 151.27
Tengzhou Eternal Glass Co., Ltd | Tengzhou Fenghua Glass Co., Ltd | 151.29 | 151.27
Tengzhou Haolong Glass Co., Ltd | Tengzhou Haolong Glass Co., Ltd | 151.29 | 151.27
Tengzhou Jingcheng Mirror Co., Ltd | Tengzhou Jingcheng Mirror Co., Ltd | 151.29 | 151.27
Tengzhou Jinjing Glass Co., Ltd | Tengzhou Jinjing Glass Co., Ltd | 151.29 | 151.27
Tengzhou Jinjing Glass Co., Ltd | Langfang Jinbiao Glass Co., Ltd | 151.29 | 151.27
Tengzhou Yichuang Commercial Trading Co., Ltd | Tengzhou Yichuang Commercial Trading Co., Ltd | 151.29 | 151.27
Xiamen Guorui Hengsheng Advanced Materials Co., Ltd | Xiamen Guorui Hengsheng Advanced Materials Co., Ltd | 151.29 | 151.27
Xiamen Guorui Hengsheng Advanced Materials Co., Ltd | Xiamen Shiner Glass Co., Ltd | 151.29 | 151.27
Xinyi Group (Glass) Co., Ltd | Xinyi Glass (Tianjin) Co., Ltd | 151.29 | 151.27
Xinyi Group (Glass) Co., Ltd | Xinyi Glass (Wuhu) Co., Ltd | 151.29 | 151.27
Zhongshan Neptum Sanitary Ware Co., Ltd | Zhongshan Neptum Sanitary Ware Co., Ltd | 151.29 | 151.27
Zhongshan Ninghe Intelligent Kitchen and Bath Co., Ltd | Zhongshan Ninghe Intelligent Kitchen and Bath Co., Ltd | 151.29 | 151.27
China-Wide Entity |  | * 181.54 | 181.52
* Rate based on facts available with adverse inferences.

Disclosure

Commerce intends to disclose the calculations performed in this final determination to interested parties within five days of any public announcement or, if there is no public announcement, within five days of the date of publication of this notice in the Federal Register in accordance with 19 CFR 351.224(b).

Suspension of Liquidation

In accordance with section 733(d)(2) of the Act, we instructed U.S. Customs and Border Protection (CBP) to suspend liquidation of all appropriate entries of subject merchandise, as described in Appendix I of the Preliminary Determination, which were entered, or withdrawn from warehouse, for consumption, on or after July 15, 2025, the date of publication of the Preliminary Determination in the Federal Register.

In accordance with section 733(d) of the Act, we subsequently instructed CBP to discontinue the suspension of liquidation of all entries of subject merchandise entered or withdrawn from warehouse, on or after January 11, 2026, the first day provisional measures were no longer in effect, but to continue the suspension of liquidation of all entries of subject merchandise on or before January 10, 2026.

If the U.S. International Trade Commission (ITC) issues a final affirmative injury determination, we will issue an antidumping duty order, reinstate the suspension of liquidation under section 736(a) of the Act, and instruct CBP to require the following cash deposits of estimated antidumping duties for all appropriate entries: (1) for the producer/exporter combinations listed in the table above, the applicable cash deposit rate is listed in the table for that combination; (2) for all combinations of Chinese producers/exporters of the merchandise under consideration that have not established eligibility for separate rates, the cash deposit rate will be equal to the estimated weighted-average dumping margin established for the China-wide entity; and (3) for all third country exporters of merchandise under consideration not listed in the table above, the cash deposit rate is the cash deposit rate applicable to the Chinese producer/exporter combination (or China-wide entity) that supplied that third-country exporter or, if the exporter/producer combination does not have its own rate, the cash deposit rate will be the China-wide rate. If the ITC determines that material injury, or threat of material injury, does not exist, then this proceeding will be terminated, the suspension of liquidation will be lifted, and all cash deposits for estimated antidumping duties will be refunded.

To determine the cash deposit rate, Commerce normally adjusts the estimated weighted-average dumping margin by the amount of export subsidies countervailed in a companion countervailing duty (CVD) proceeding, when CVD provisional measures are in effect. Accordingly, where Commerce has made a final affirmative determination for countervailable export subsidies, Commerce offsets the estimated weighted-average dumping margin by the appropriate export subsidy rate. Commerce has continued to adjust the cash deposit rate for export subsidies in the companion CVD investigation by the appropriate export subsidy rate as indicated in the above chart. However, the suspension of liquidation of provisional measures in the companion CVD case has been discontinued; ¹⁶ therefore, we are not instructing CBP to collect cash deposits based upon the adjusted estimated weighted-average dumping margin for those export subsidies at this time. If the ITC makes a final affirmative determination of injury due to both dumping and subsidies, then the cash deposit rate will be revised effective on the date of the publication of the ITC's final affirmative determination in the Federal Register to be the company-specific estimated weighted-average dumping margin adjusted for export subsidies.

¹⁶ See Float Glass Products from the People's Republic of China: Preliminary Affirmative Countervailing Duty Determination and Alignment of Final Determination with Final Antidumping Duty Determination, 90 FR 21281 (May 19, 2025); see also section 703(d) of the Act, which states that the provisional measures may not be in effect for more than four months, which in the companion CVD case is 120 days after the publication of the preliminary determination, or September 16, 2025 (i.e., last day provisional measures are in effect).

ITC Notification

In accordance with section 735(d) of the Act, Commerce will notify the ITC of its final affirmative determination of sales at LTFV. Because Commerce's final determination is affirmative, in accordance with section 735(b)(2) of the Act, the ITC will determine, within 45 days, whether the domestic industry in the United States is materially injured, or threatened with material injury, by reason of imports of gloat glass. If the ITC determines that material injury or threat of material injury does not exist, this proceeding will be terminated, all cash deposits posted will be refunded, and suspension of liquidation will be lifted. If the ITC determines that such injury does exist, Commerce will issue an antidumping duty order directing CBP to assess, upon further instruction by Commerce, antidumping duties on all imports of the subject merchandise entered, or withdrawn from warehouse, for consumption on or after the effective date of the suspension of liquidation, as discussed in the “Continuation of Suspension of Liquidation” section above.

Administrative Protective Order (APO)

This notice will serve as the only reminder to parties subject to an APO of their responsibility concerning the disposition of proprietary information disclosed under APO in accordance with 19 CFR 351.305(a)(3). Timely written notification of the return or destruction of APO materials or conversion to judicial protective order is hereby requested. Failure to comply with the regulations and terms of an APO is a violation subject to sanction.

Notification to Interested Parties

This determination is issued and published in accordance with sections 735(d) and 777(i)(1) of the Act, and 19 CFR 351.210(c).

Dated: February 3, 2026.
Christopher Abbott,
Deputy Assistant Secretary for Policy and Negotiations, performing the non-exclusive functions and duties of the Assistant Secretary for Enforcement and Compliance.

Appendix I

Scope of the Investigation

The scope of this investigation covers float glass products (FGP), which are articles of soda-lime-silica glass that are manufactured by floating a continuous strip of molten glass over a smooth bath of tin (or another liquid metal with a density greater than molten glass), cooling the glass in an annealing lehr, and cutting it to appropriate dimensions. For purposes of the investigation, float glass products have an actual thickness of at least 2.0 mm (0.0787 inches) and an actual surface area of at least 0.37 square meters (4.0 square feet).

The country of origin of each float glass product is determined by the location where the soda-lime-silica glass is first manufactured by floating a continuous strip of molten glass over a smooth bath of tin and cooling the glass in an annealing lehr, regardless of the location of any downstream finishing or fabrication operations.

Prior to being subjected to further treatment, finishing, or fabrication, float glass products meet the requirements of Type I under ASTM-C1036 of the American Society for Testing and Materials (ASTM).

Float glass products may be clear, stained, tinted, or coated with one or more materials. Examples of coated float glass products include Low-E architectural glass (i.e., glass with a low emissivity coating to limit the penetration of radiant heat energy) and frameless mirrors (i.e., flat glass with a silver, aluminum, or other reflective layer) such as mirror stock sheet.

Float glass products may be annealed, chemically strengthened, heat strengthened, or tempered to achieve a desired surface compression, pursuant to ASTM-C1048, ASTM-C1422/C1422M, or other similar specifications.

Float glass products include tub and shower enclosures (i.e., doors and panels) made of tempered glass, which may be sold with attached or unattached hardware. In such cases, the scope covers only the tempered glass, to the exclusion of any non-glass hardware.

The only float glass product assemblies included within the scope are: (1) articles consisting of two of more sheets of float glass that are bonded together using a polymer interlayer (i.e., laminated glass); (2) insulating glass units (IGUs), which consist of two or more sheets of float glass separated by a spacer material and hermetically sealed together at the edge in order to create a thermal barrier using air or one or more gases but excluding any non-float glass components (other than the spacer and insulating materials) that may be mounted within the space between sheets of float glass (e.g., blinds, wrought iron cores, and camed patterned glass), as such non-float glass components are deemed outside the scope and not subject to duties; and (3) LED mirrors (i.e., float glass mirrors with one or more light-emitting diodes attached to or integrated with the mirror, as well as framed float glass mirrors with one or more light-emitting diodes attached to or integrated with the mirror or the mirror frame, but without other electronic functionality such as digital or video displays or audio circuitry).

Float glass products covered by the scope may meet one or more of the ASTM-C162, ASTM-C1036, ASTM-C1048, ASTM-C1172, ASTM-C1349, ASTM-C1376, ASTM-C1422/C1422M, ASTM-C1464, ASTM-C1503, ASTM-C1651, ASTM-E1300, and ASTM-E2190 specifications, definitions, and/or standards.

Float glass products may be further worked, including, but not limited to, operations such as: cutting; beveling; edging; notching; drilling; etching; bending; curving; chipping; embossing; engraving; surface grinding; or polishing; and sandblasting (i.e., using high velocity air to stream abrasive particles and thereby impart a frosted aesthetic to the glass surface). A float glass product which undergoes further work remains within the scope so long as the soda-lime-silica glass originally satisfied the requirements of ASTM-C1036 Type I and was first manufactured in a subject country, regardless of where it is further worked.

Excluded from the scope are: (1) wired glass (i.e., glass with a layer of wire mesh embedded within); (2) patterned flat glass (i.e., rolled glass with a pattern impressed on one or both sides) meeting the requirements of Type II under ASTM-C1036, including greenhouse glass and patterned solar glass (i.e., photovoltaic glass with a textured surface); (3) safety glazing materials for vehicles certified to American National Standards Institute (ANSI) Standard Z26.1; (4) vacuum insulating glass (VIG) units, which consist of two or more sheets of float glass separated by a spacer material, with at least one hermetically sealed compartment that uses a gas-free vacuum as a thermal barrier; (5) framed mirrors without any LEDs integrated with the mirror or the mirror frame; (6) unframed “over-the-door” mirrors that are ready for use as imported without undergoing after importation any processing, finishing, or fabrication; and (7) heat-strengthened washing machine lid glass with an actual surface area less than 6.0 square feet (0.56 square meters).

Also excluded from the scope of the investigation are: (1) soda-lime-silica glass containing less than 0.01 percent iron oxide by weight, annealed with a surface compression less than 3,500 pounds per square inch (PSI), having a transparent conductive oxide base coating (e.g., tin oxide), and with an actual thickness less than or equal to 4.0 mm (0.1575 inches) (i.e., “coated solar glass”); and (2) heat treated soda-lime-silica glass with a surface compression between 3,500 and 10,000 PSI, containing two or more drilled holes, and having an actual thickness less than 2.5 mm (0.0984 inches) (i.e., “clear back solar glass”). Solar glass products (also known as photovoltaic glass) are designed to facilitate the conversion of solar energy into electricity.

Also excluded are metal-camed glass products (i.e., panels of glass joined together with metal banding) where the constituent glass panels would otherwise be excluded by reason of their size (e.g., an actual surface area less than 0.37 square meters, or 4.0 square feet) and/or by reason of consisting of patterned flat glass (i.e., rolled glass with a pattern impressed on one or both sides) meeting the requirements of Type II under ASTM-C1036.

Also excluded from the scope of the investigation are any products already covered by the scope of any extant antidumping and/or countervailing duty orders, including Aluminum Extrusions from the People's Republic of China: Antidumping Duty Order, 76 FR 30650 (May 26, 2011), and Aluminum Extrusions from the People's Republic of China: Countervailing Duty Order, 76 FR 30653 (May 26, 2011).

The products subject to the investigation are currently classifiable under subheadings 7005.10.8000, 7005.21.1010, 7005.21.1030, 7005.21.2000, 7005.29.1810, 7005.29.1850, 7005.29.2500, 7007.29.0000, 7008.00.0000, 7009.91.5010, 7009.91.5095, and 7009.92.5010 of the Harmonized Tariff Schedule of the United States (HTSUS). Products subject to the investigation may also enter under HTSUS subheadings 7006.00.4010, 7006.00.4050, 7007.19.0000, 7013.99.2000, 7013.99.9090, 7610.10.0030, and 7610.90.0080. Although the HTSUS subheadings are provided for convenience and customs purposes, the written description of the scope of the investigation is dispositive.

Appendix II

List of Topics Discussed in the Issues and Decision Memorandum

I. Summary

II. Background

III. Changes Since the Preliminary Determination

IV. Discussion of the Issues

Comment 1: Replacement Mandatory Respondents

Comment 2: Xinyi's Cooperation

V. Recommendation

[FR Doc. 2026-02492 Filed 2-6-26; 8:45 am]

BILLING CODE 3510-DS-P